DEPARTMENT OF COMMERCE

National Oceanic and Atmospheric Administration

RIN 0648-XA502

Endangered Species; File No. 15685

AGENCY: National Marine Fisheries Service (NMFS), National Oceanic and Atmospheric Administration (NOAA), Commerce.

ACTION: Notice; receipt of application.

SUMMARY: Notice is hereby given that the NMFS Pacific Islands Fisheries Science Center (PIFSC; Samuel Pooley, PhD, Responsible Party), has applied in due form for a permit to take green (Chelonia mydas) and hawksbill (Eretmochelys imbricata) sea turtles for purposes of scientific research.

DATES: Written, telefaxed, or e-mail comments must be received on or before July 20, 2011.

ADDRESSES: The application and related documents are available for review by selecting “Records Open for Public Comment” from the Features box on the Applications and Permits for Protected Species (APPS) home page, https://apps.nmfs.noaa.gov, and then selecting File No. 15685 from the list of available applications.

These documents are also available upon written request or by appointment in the following offices:

Permits, Conservation and Education Division, Office of Protected Resources, NMFS, 1315 East-West Highway, Room 13705, Silver Spring, MD 20910; phone (301)713-2289; fax (301)713-0376; and

Pacific Islands Region, NMFS, 1601 Kapiolani Blvd., Rm 1110, Honolulu, HI 96814-4700; phone (808) 944-2200; fax (808) 973-2941.

Written comments on this application should be submitted to the Chief, Permits, Conservation and Education Division

• By e-mail to NMFS.Pr1Comments@noaa.gov (include the File No. in the subject line of the e-mail),

• By facsimile to (301)713-0376, or

• At the address listed above.

Those individuals requesting a public hearing should submit a written request to the Chief, Permits, Conservation and Education Division at the address listed above. The request should set forth the specific reasons why a hearing on this application would be appropriate.

FOR FURTHER INFORMATION CONTACT: Amy Hapeman or Colette Cairns, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The PIFSC requests a five-year research permit to continue long-term monitoring of the status of green and hawksbill sea turtles in the Hawaiian Islands from January 2012 through December 2016 to determine growth rates, health status, stock and population structure, foraging ecology, habitat use, and movements. Researchers would capture, measure, flipper and passive integrated transponder tag, weigh, biologically sample (tissue, blood, scute, lavage), and attach transmitters on 600 green and 25 hawksbill sea turtles annually before release.

Dated: June 14, 2011.
Tammy C. Adams,
Acting Chief, Permits, Conservation and Education Division, Office of Protected Resources, National Marine Fisheries Service.

[FR Doc. 2011-15315 Filed 6-17-11; 8:45 am]

BILLING CODE 3510-22-P